DEPARTMENT OF COMMERCE

International Trade Administration

[A-484-803]

Large Diameter Welded Pipe From Greece: Final Results of Antidumping Duty Administrative Review; 2021-2022

AGENCY: Enforcement and Compliance, International Trade Administration, Department of Commerce.

SUMMARY: The U.S. Department of Commerce (Commerce) determines that Corinth Pipeworks Pipe Industry S.A. (CPW) did not make sales of subject merchandise at less than normal value during the period of review (POR), May 1, 2021, through April 30, 2022.

DATES: Applicable December 22, 2023.

FOR FURTHER INFORMATION CONTACT: David Crespo, AD/CVD Operations, Office II, Enforcement and Compliance, International Trade Administration, U.S. Department of Commerce, 1401 Constitution Avenue NW, Washington, DC 20230, telephone: 202-482-3693.

SUPPLEMENTARY INFORMATION:

Background

On June 20, 2023, Commerce published in the Federal Register the preliminary results of the 2021-2022 administrative review ¹ of the antidumping duty order on large diameter welded pipe (LDWP) from Greece.² This review covers one producer/exporter of the subject merchandise, CPW. We invited interested parties to comment on the Preliminary Results.³ On August 3, 2023, we received case briefs from the petitioner ⁴ and CPW.⁵ On August 14, 2023, we received rebuttal briefs from the petitioner ⁶ and CPW.⁷ On September 22, 2023, Commerce extended the deadline for the final results of review until December 15, 2023.⁸ For a complete description of the events that occurred since the Preliminary Results, see the Issues and Decision Memorandum.⁹ Commerce conducted this review in accordance with section 751(a)(1)(B) of the Tariff Act of 1930, as amended (the Act).

¹ See Large Diameter Welded Pipe from Greece: Preliminary Results of Antidumping Duty Administrative Review; 2021-2022, 88 FR 39823 (June 20, 2023) (Preliminary Results), and accompanying Preliminary Decision Memorandum.

² See Large Diameter Welded Pipe from Greece: Amended Final Affirmative Antidumping Determination and Antidumping Duty Order, 84 FR 18769 (May 2, 2019) (Order).

³ See Preliminary Results, 88 FR at 39823.

⁴ See Petitioner's Letter, “Case Brief,” dated August 3, 2023. The petitioner is the American Line Pipe Producers Association Trade Committee (the petitioner).

⁵ See CPW's Letter, “Case Brief,” dated August 3, 2023.

⁶ See Petitioner's Letter, “Rebuttal Brief,” dated August 14, 2023.

⁷ See CPW's Letter, “Rebuttal Brief,” dated August 14, 2023.

⁸ See Memorandum, “Extension of Deadline for Final Results of Antidumping Duty Administrative Review,” dated September 22, 2023.

⁹ See Memorandum, “Issues and Decision Memorandum for the Final Results of the 2021-2022 Administrative Review of the Antidumping Duty Order on Large Diameter Welded Pipe from Greece,” dated concurrently with, and hereby adopted by, this notice (Issues and Decision Memorandum).

Scope of the Order

The product covered by the Order is large diameter welded pipe. A complete description of the scope of the Order is contained in the Issues and Decision Memorandum.

Analysis of Comments Received

All issues raised in the case and rebuttal briefs filed by parties in this administrative review are addressed in the Issues and Decision Memorandum and are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on a review of the record and the comments received from interested parties regarding the Preliminary Results, and for the reasons explained in the Issues and Decision Memorandum, we made certain changes to the weighted-average dumping margin calculation for CPW for the final results of review.¹⁰

¹⁰ Id.

Final Results of Review

As a result of this review, we determine that the following weighted-average dumping margin exists for the period May 1, 2021, through April 30, 2022:

Producer/exporter | Weighted- average dumping margin (percent)
Corinth Pipeworks Pipe Industry S.A | 0.00

Disclosure

Commerce intends to disclose the calculations performed in connection with these final results of review to interested parties within five days after public announcement of the final results or, if there is no public announcement, within five days of the date of publication of the notice of final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for each importer's examined sales and the total entered value of those sales. Where either the respondent's weighted-average dumping margin is zero or de minimis, within the meaning of 19 CFR 351.106(c)(1), or an importer-specific assessment rate is de minimis (i.e., less than 0.5 percent), we will instruct CBP to liquidate the appropriate entries without regard to antidumping duties.

For entries of subject merchandise during the POR produced by CPW for which it did not know that its merchandise was destined for the United States, we will instruct CBP to liquidate unreviewed entries at the all-others rate established in the less-than-fair-value (LTFV) investigation of 10.26 percent ad valorem,¹¹ if there is no rate for the intermediate company(ies) involved in the transaction.

¹¹ See Order, 84 FR at 18769.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

Upon publication of this notice in the Federal Register, the following cash deposit requirements will be effective for all shipments of subject merchandise entered, or withdrawn from warehouse, for consumption on or after the publication date of the final results of this administrative review, as provided by section 751(a)(2) of the Act: (1) the cash deposit rate for CPW will be zero, as established in these final results of the review; (2) for merchandise exported by producers or exporters not covered in this review but covered in a prior completed segment of the proceeding, the cash deposit rate will continue to be the company-specific rate published in the completed segment for the most recent period; (3) if the exporter is not a firm covered in this review, a prior review, or the original LTFV investigation but the producer has been covered in a prior completed segment of this proceeding, then the cash deposit rate will be the rate established in the completed segment for the most recent period for the producer of the merchandise; and (4) the cash deposit rate for all other producers or exporters will continue to be 10.26 percent, the all-others rate established in the LTFV investigation for this proceeding.¹² These cash deposit requirements, when imposed, shall remain in effect until further notice.

¹² Id.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order

This notice also serves as the only reminder to parties subject to an administrative protective order (APO) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Notification to Interested Parties

We are issuing and publishing this notice in accordance with sections 751(a)(1) and 777(i) of the Act and 19 CFR 351.221(b)(5).

Dated: December 15, 2023.
Abdelali Elouaradia,
Deputy Assistant Secretary for Enforcement and Compliance.

Appendix

List of Topics Discussed in the Issues and Decision Memorandum

I. Summary

II. Background

III. Scope of the Order

IV. Changes Since the Preliminary Results

V. Discussion of the Issues

Comment 1: Use of POR Home Market (HM) Sales for the Calculation of Constructed Value (CV) Profit and Expenses

Comment 2: Foreign Exchange Gains/Losses Directly Linked to U.S. Sales

Comment 3: Details of Commerce's Filing Procedures in Place During the Proceeding

Comment 4: Transactions Disregarded Adjustment to Scrap Offset

Comment 5: Calculation of CV Expenses and Profit Ratio

Comment 6: Profit Cap

Comment 7: General and Administrative (G&A) Expenses

VI. Recommendation

[FR Doc. 2023-28235 Filed 12-21-23; 8:45 am]

BILLING CODE 3510-DS-P